NUCLEAR REGULATORY COMMISSION

[Docket No. NRC-2011-0181]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on August 23, 2011 (76 FR 52698).

1. Type of submission, new, revision, or extension: Extension.

2. The title of the information collection: NRC Form 483, Registration Certificate—In Vitro Testing with Byproduct Material Under General License.

3. Current OMB approval number: 3150-0038.

4. The form number if applicable: NRC Form 483.

5. How often the collection is required: There is a one-time submittal of information to receive a validated copy of NRC Form 483 with an assigned registration number. In addition, any changes in the information reported on NRC Form 483 must be reported in writing to the NRC within 30 days after the effective date of such change.

6. Who will be required or asked to report: Any physician, veterinarian in the practice of veterinary medicine, clinical laboratory or hospital which desires a general license to receive, acquire, possess, transfer, or use specified units of byproduct material in certain in vitro clinical or laboratory tests.

7. An estimate of the number of annual responses: 87 (7 NRC licensees + 80 Agreement State licensees).

8. The estimated number of annual respondents: 87 (7 NRC licensees + 80 Agreement State licensees).

9. An estimate of the total number of hours needed annually to complete the requirement or request: 12.87 hours (1 hour for NRC licensees + 10.7 hours for Agreement State licensees + 1.17 hours recordkeeping).

10. Abstract: Title 10 of the Code of Federal Regulations (10 CFR) 31.11 establishes a general license authorizing any physician, clinical laboratory, veterinarian in the practice of veterinary medicine, or hospital to possess certain small quantities of byproduct material for in vitro clinical or laboratory tests not involving the internal or external administration of the byproduct material or the radiation there from to human beings or animals. Possession of byproduct material under 10 CFR 31.11 is not authorized until the physician, clinical laboratory, veterinarian in the practice of veterinary medicine, or hospital has filed NRC Form 483 and received from the Commission a validated copy of NRC Form 483 with a registration number.

The public may examine and have copied for a fee, publicly available documents, including the final supporting statement, at the NRC's Public Document Room, Room O1-F21, One White Flint North, 11555 Rockville Pike, Rockville, Maryland 20874. OMB clearance requests are available at the NRC Web site: http://www.nrc.gov/public-involve/doc-comment/omb/index.html. The document will be available on the NRC home page site for 60 days after the signature date of this notice.

Comments and questions should be directed to the OMB reviewer listed below by January 12, 2012. Comments received after this date will be considered if it is practical to do so, but assurance of consideration cannot be given to comments received after this date.

Chad Whiteman, Desk Officer, Office of Information and Regulatory Affairs (3150-0038), NEOB-10202, Office of Management and Budget, Washington, DC 20503.

Comments can also be emailed to CWhiteman@omb.eop.gov or submitted by telephone at (202) 395-4718.

The NRC Clearance Officer is Tremaine Donnell, (301) 415-6258.

Dated at Rockville, Maryland, this 6th day of December 2011.
For the Nuclear Regulatory Commission.
Tremaine Donnell,
NRC Clearance Officer, Office of Information Services.

[FR Doc. 2011-31850 Filed 12-12-11; 8:45 am]

BILLING CODE 7590-01-P